COMMISSION ON CIVIL RIGHTS

Sunshine Act Meeting

AGENCY: U.S. Commission on Civil Rights

DATE AND TIME: Friday, February 18, 2000, 9:30 a.m.

PLACE: U.S. Commission on Civil Rights, 624 Ninth Street, N.W., Room 540, Washington, DC 20425.

STATUS:

Agenda

I. Approval of Agenda

II. Approval of Minutes of January 14, 2000 Meeting

III. Announcements

IV. Staff Director's Report

V. State Advisory Committee Report

• Unequal Justice: African Americans In the Virginia Criminal Justice System (Virginia)

VI. Review GPRA Draft Report

VII. Future Agenda Items

10:30 a.m.—Briefing on Zero Tolerance

CONTACT PERSON FOR FURTHER INFORMATION: David Aronson, Press and Communications (202) 376-8312.

Edward A. Hailes, Jr.,
Acting General Counsel.

[FR Doc. 00-3226 Filed 2-8-00; 2:23 pm]

BILLING CODE 6335-01-M